Title 3—

The President

Proclamation 10265 of September 27, 2021

National Voter Registration Day, 2021

By the President of the United States of America

A Proclamation

The right to vote is central to who we are as a Nation and a people—it defines us as Americans, propels us to ever-greater progress, and serves as the foundation of our liberty. Voting provides Americans with a voice in building the country we want to live in together and the country we hope to leave to our children and grandchildren. The right to vote freely and fairly, and to have our vote counted, is a sacred and fundamental part of our Nation's character. With it, anything is possible for America; without it, nothing is.

For our democracy to work, it is up to all of us to protect the right to vote—and to exercise it. The first step that all of us can take is to make sure that we are registered to vote. Each year, National Voter Registration Day reminds us of our right and our responsibility, as individual citizens and as one Nation, to exercise the sacred right to vote and ensure that our voices are heard.

Through great sacrifice and the courage of generations of civil rights leaders and activists, we have made strides to ensure that more Americans are able to take part in the democratic process. We have repeatedly amended the Constitution to expand voting access across our history, and landmark legislation like the Indian Citizenship Act of 1924 and the Voting Rights Act of 1965 have helped to make those constitutional promises real and meaningful for more and more of our people.

But this work remains unfinished. Today, the right to vote is being suppressed and subverted in many parts of the country by shameful attempts to restrict Americans' access to the ballot and the rolling back of decades of voting rights progress. This assault—largely targeting Americans of color, as such assaults so often have through the darkest chapters of our history, is an attack on our democracy, on our liberty, and on who we are as Americans. As my friend, American hero Representative John Lewis, reminded us shortly before he passed, `Democracy is not a state; it is an act.' It is our shared responsibility to act as one people to secure the basic promise of American democracy.

My Administration has taken firm and far-reaching action to expand and protect voting rights. Earlier this year, I issued an Executive Order to promote access to voting. This order established a whole-of-government effort directing Federal agencies to expand access to voter registration and election information, especially in some of our most underserved communities. My Administration also supports Federal legislation to set basic national standards for fair registration and voting in Federal elections and to protect against racial discrimination and the subversion of the election process. Guaranteeing the right to vote and ensuring that every vote is counted has always been one of the most patriotic things we can do, and my Administration is committed to safeguarding and strengthening our democracy.

As we observe National Voter Registration Day, I encourage all eligible Americans to make sure they are registered to vote—to check their registration status and ensure that their registration is accurate and up to date—and to help their neighbors, family, and friends to do the same. Visit Vote.gov for more information on how to register to vote. I also urge policymakers and citizens across the country, of all parties, to join me in defending, strengthening, and expanding this paramount constitutional right.

NOW, THEREFORE, I, JOSEPH R. BIDEN JR., President of the United States of America, by virtue of the authority vested in me by the Constitution and the laws of the United States, do hereby proclaim September 28, 2021, as National Voter Registration Day. I call on all Americans to observe this day by ensuring they are registered to vote, and thereby prepared to stand up for our democracy and the vitality and integrity of our elections.

IN WITNESS WHEREOF, I have hereunto set my hand this twenty-seventh day of September, in the year of our Lord two thousand twenty-one, and of the Independence of the United States of America the two hundred and forty-sixth.

[FR Doc. 2021-21449

Filed 9-29-21; 8:45 am]

Billing code 3295-F1-P